COMMISSION ON CIVIL RIGHTS

Sunshine Act Meeting

AGENCY: United States Commission on Civil Rights.

ACTION: Notice of Commission Public Briefing, Racial Disparities in Maternal Health, notice of commission business meeting, and call for public comments.

DATES: Friday, November 13, 2020, 10:00 a.m. ET.

ADDRESSES: Virtual Briefing and Business Meeting.

FOR FURTHER INFORMATION CONTACT: Angelia Rorison (202) 376-8359; TTY: (202) 376-8116; publicaffairs@usccr.gov.

SUPPLEMENTARY INFORMATION: On Friday, November 13, 2020, at 10:00 a.m. Eastern Time, the U.S. Commission on Civil Rights will hold a virtual briefing to examine the federal role in addressing racial disparities in maternal health outcomes, including negative pregnancy-related health outcomes and pregnancy-related deaths of women in the United States. The Commission will analyze current data regarding pregnancy-related and pregnancy-associated deaths, including data collected by the Centers for Disease Control and Prevention, the National Institute of Minority Health and Health Disparities, and the Department of Health and Human Services' State Partnership Initiative to Address Health Disparities. This briefing is open to the public via Weblink. The event will live-stream at https://www.youtube.com/user/USCCR/videos. (Streaming information subject to change.) Public participation is available for the event with view access, along with an audio option for listening.

Computer assisted real-time transcription (CART) will be provided. The web link to access CART (in English) on Friday, November 13, 2020, is https://www.streamtext.net/player?event=USCCR. Please note that CART is text-only translation that occurs in real time during the meeting and is not an exact transcript. To request additional accommodations, persons with disabilities should email access@usccr.gov by Monday, November 6, 2020 indicating “accommodations” in the subject line.

Briefing Agenda for Racial Disparities in Maternal Health: 10:00 a.m.-1:30 p.m.

All Times Eastern Time

I. Introductory Remarks: Chair Catherine E. Lhamon: 10:00-10:05 a.m.

II. Panel 1: Policy and Legislation: 10:05-11:05 a.m.

III. Break: 11:05-11:15 a.m.

IV. Panel 2: Service Providers/Private Organizations: 11:15 a.m.-12:15 p.m.

V. Break: 12:15-12:25 p.m.

VI. Panel 3: Lived Experience: 12:25-1:25 p.m.

VII. Closing Remarks: Chair Catherine E. Lhamon: 1:25-1:30 p.m.

VIII. Adjourn Meeting

Schedule is subject to change.

Call for Public Comments:

In addition to the testimony collected on Friday, November 13, 2020, via virtual briefing, the Commission welcomes the submission of material for consideration as we prepare our report. Please submit such information to maternalhealth@usccr.gov no later than December 14, 2020, or by mail to OCRE/Public Comments, ATTN: Maternal Health, U.S. Commission on Civil Rights, 1331 Pennsylvania Ave. NW, Suite 1150, Washington, DC 20425. The Commission encourages the use of email to provide public comments due to the current COVID-19 pandemic.

Dated: November 2, 2020.
David Mussatt,
Supervisory Chief, Regional Programs Unit.

[FR Doc. 2020-24582 Filed 11-2-20; 4:15 pm]

BILLING CODE P